NUCLEAR REGULATORY COMMISSION

[NRC-2011-0252]

Biweekly Notice; Applications and Amendments to Facility Operating Licenses Involving No Significant Hazards Considerations

Background

Pursuant to section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from October 6, 2011 to October 19, 2011. The last biweekly notice was published on October 18, 2011 (76 FR 64388).

Addresses: Please include Docket ID NRC-2011-0252 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods.

• Federal Rulemaking Web Site: Go to http://www.regulations.gov and search for documents filed under Docket ID NRC-2011-0252. Address questions about NRC dockets to Carol Gallagher (301) 492-3668; email Carol.Gallagher@nrc.gov.

• Mail comments to: Chief, Rules, Announcements, and Directives Branch (RADB), Office of Administration, Mail Stop: TWB-05-B01M, U.S. Nuclear Regulatory Commission, Washington, DC 20555-0001.

• Fax comments to: RADB at (301) 492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are accessible electronically through ADAMS in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, (301) 415-4737, or by email to pdr.resource@nrc.gov.

• Federal Rulemaking Web Site: Public comments and supporting materials related to this notice can be found at http://www.regulations.gov by searching on Docket ID: NRC-2011-0252.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at (301) 492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at (301) 415-1677, to request (1) A digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1 F21, 11555 Rockville Pike (first floor), Rockville, Maryland. Publicly available documents created or received at the NRC are available online in the NRC Library at http://www.nrc.gov/reading-rm/adams.html. Persons who do not have access to ADAMS or who encounter problems in accessing the documents located in ADAMS, should contact the NRC PDR Reference staff at 1 -(800) -397-4209, (301) 415-4737, or by email to pdr.resource@nrc.gov.

Dominion Energy Kewaunee, Inc. (DEK), Docket No. 50-305, Kewaunee Power Station (KPS), Kewaunee County, Wisconsin

Date of amendment request: May 9, 2011.

Description of amendment request: The proposed amendment would revise the KPS current licensing basis (CLB) regarding the manner in which service water is supplied to the component cooling heat exchangers by the main return valves and the bypass flow control valves.

Basis for proposed no significant hazards consideration determination: As required by 10 CFR 50.91(a), the licensee has provided its analysis of the issue of no significant hazards consideration, which is presented below:

1. Does the proposed amendment involve a significant increase in the probability or consequences of any accident previously evaluated?

Response: No.

The proposed amendment would modify the KPS current licensing basis by changing the automatic function of providing service water flow to the component cooling heat exchangers, from being provided by control of the main service water return valves to being provided by the service water bypass flow control valves. The probability of occurrence of previously evaluated accidents is not affected, since the affected equipment is used to mitigate certain design basis accidents (DBA's) and does not contribute to the initiation of any previously evaluated accidents.

As a result of a physical plant modification, manual action is now required to open the service water main return valves to the component cooling heat exchangers for initiation of the sump recirculation phase of LOCA mitigation. These valves were previously designed to open upon receipt of an SI signal. However, automatic action to supply service water during the immediate injection phase of a postulated accident continues to be in place following this modification without any adverse functional impact. This automatic action is performed by the bypass flow control valves (i.e., the temperature control valves) in the same manner as previously performed by the main return valves. The bypass flow control valves automatically supply required cooling water flow, consistent with existing analyses for the injection phase of the postulated accident. The service water main return valves are only needed to be opened during the subsequent recirculation phase of safety injection (SI) for LOCA mitigation. Transition to the recirculation phase of SI cooling previously was, and currently remains, achieved by a series of manual actions. Adding an additional step to the procedure controlling this transition does not significantly impact the probability of correctly performing this activity. Since the required automatic function is maintained, and the additional manual action required to perform injection to recirculation phase realignment is simple, this change does not significantly increase the probability of a malfunction of a component important to safety.

Therefore, the proposed amendment does not involve a significant increase in the consequences of a previously evaluated accident.

2. Does the proposed amendment create the possibility of a new or different kind of accident from any previously evaluated?

Response: No.

The proposed amendment changes the manner in which service water is supplied to the component cooling heat exchangers immediately after a DBA involving an SI signal. Previously, service water was automatically supplied to the component cooling heat exchangers through the service water main return valves. This design has been changed, and currently service water is supplied to the component cooling heat exchangers through the service water bypass flow control valves. No physical changes are being made to any other portion of the plant, so no new accident causal mechanisms are being introduced. The proposed change does not result in any new mechanisms that could initiate damage to the reactor or its principal safety barriers (i.e., fuel cladding, reactor coolant system, or primary containment).

Therefore, the proposed amendment does not create the possibility of a new or different kind of accident from any previously evaluated.

3. Does the proposed amendment involve a significant reduction in the margin of safety?

Response: No.

The proposed amendment does not affect the inputs or assumptions of any of the design basis analyses that demonstrate the integrity of the fuel cladding, reactor coolant system, or containment during accident conditions. The automatic function of supplying required cooling water to the component cooling heat exchangers at the onset of a postulated accident is not being changed. Removal of the automatic opening signal from the service water main return valves will require that these valves be manually opened during the latter stages of the postulated accident when aligning for containment sump recirculation cooling. However, aligning for containment sump recirculation cooling had previously credited a series of manual actions within the analyses for the design basis accident. The added step of opening the service water main return valves does not significantly impact the ability of operators to perform this alignment. Furthermore, by reducing the initial excess supply of cooling water (via lower capacity valves) to the component cooling system heat exchangers, additional cooling water is available to the containment fan coil units for mitigating the postulated accident and the margin to two-phase flow in the affected cooling system is improved. Thus, DEK considers that the proposed changes will increase overall effectiveness of the engineered safety features' response to postulated accidents involving initiation of an SI signal.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., Counsel for Dominion Energy Kewaunee, Inc., 120 Tredegar Street, Richmond, VA 23219.

NRC Branch Chief: Robert J. Pascarelli.

Nebraska Public Power District, Docket No. 50-298, Cooper Nuclear Station, Nemaha County, Nebraska

Date of amendment request: January 5, 2011, as supplemented by letter dated October 6, 2011.

Description of amendment request: The proposed amendment would revise the Technical Specification (TS) 3.4.3, “Safety/Relief Valves (SRVs) and Safety Valves (SVs).” The proposed amendment would reduce the number of SRVs required to be OPERABLE for over-pressure protection (OPP) from eight to seven.

Basis for proposed no significant hazards consideration determination: As required by 10 CFR 50.91(a), the licensee has provided its analysis of the issue of no significant hazards consideration, which is presented below:

1. Do the proposed changes involve a significant increase in the probability or consequences of an accident previously evaluated?

Response: No.

The number of SRVs installed in the plant and their configuration are not being changed by this amendment. Since there are no changes to any physical configuration of the SRVs nor to their lift setpoints, no new accident initiators are introduced. The plant will continue to be operated in the same manner as before and will respond to accidents in the same manner as before. Only the number of SRVs required to be operable is being changed. Therefore, the proposed change does not result in a significant increase in the probability of an accident previously evaluated.

The change does, in fact, reduce the number of SRVs originally assumed to be operable in design basis accident mitigation calculations. The General Electric Hitachi (GEH) analysis has shown that reducing the number of SRVs required to be operable from eight to six continues to preserve substantial margin to OPP and ATWS [anticipated transient without scram] limits. With one SRV inoperable, i.e. reducing the number of required operable SRVs from eight to seven, the reduction in margin is well within the safety design bases of the nuclear pressure relief system. Therefore, the functioning of fewer SRVs continues to accomplish the required pressure relief for the analyzed transients and events.

Therefore, the proposed changes do not involve a significant increase in the probability or consequences of an accident previously evaluated.

2. Do the proposed changes create the possibility of a new or different kind of accident from any accident previously evaluated?

Response: No.

The proposed amendment does not change the design function or operation of the SRVs. The change does not create the possibility of a new or different kind of accident since there is no credible new failure mechanism, malfunction, or accident initiator not considered in the design and licensing bases.

Therefore, the proposed change does not create the possibility of a new or different kind of accident from any previously evaluated.

3. Do the proposed changes involve a significant reduction in a margin of safety?

Response: No.

The safety margins affected by this proposed change are the OPP pressure relief margin to Reactor Coolant System Pressure Boundary design pressure and the ATWS pressure relief margin to the American Society of Mechanical Engineers Level `C' Service Limit. The GEH analysis performed to support this change demonstrates the margin between maximum pressure rise, upon SRV actuation, and the OPP limit continues to be substantial. For ATWS with one SRV inoperable, available remaining margin to the Level C Service limit is still sufficient to ensure maximum pressure and required steam flows are within analysis success criteria. The analysis success criteria are, in turn, below the accident and transient limits. The change does not exceed a design basis or safety limit, and it does not significantly reduce the margin of safety. Thus, the margin reduction for one SRV inoperable is not significant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Michael T. Markley.

Nebraska Public Power District, Docket No. 50-298, Cooper Nuclear Station, Nemaha County, Nebraska

Date of amendment request: March 26, 2011.

Description of amendment request: The proposed amendment would revise several Technical Specification (TS) pages to correct formatting errors and typographical errors, including pages within TS 3.1.3, “Control Rod OPERABILITY,” TS 3.1.4, “Control Rod Scram Times,” TS 3.3.1.1, “Reactor Protection System (RPS) Instrumentation,” TS 3.3.5.1, “Emergency Core Cooling System (ECCS) Instrumentation,” TS 3.3.6.1, “Primary Containment Isolation Instrumentation,” TS 3.3.6.2, “Secondary Containment Isolation Instrumentation,” TS 3.3.8.1, “Loss of Power (LOP) Instrumentation,” TS 3.3.8.2, “Reactor Protection System (RPS) Electric Power Monitoring,” TS 3.5.1, “ECCS—Operating,” TS 3.5.2, “ECCS—Shutdown,” TS 3.6.1.1, “Primary Containment,” TS 3.6.4.3, “Standby Gas Treatment (SGT) System,” TS 3.7.4, “Control Room Emergency Filter (CREF) System,” TS 3.8.1, “AC [Alternating Current] Sources—Operating,” TS 3.8.3, “Diesel Fuel Oil, Lube Oil, and Starting Air,” TS 5.2, “Organization,” TS 5.5, “Programs and Manuals,” and TS 5.5, “Programs and Manuals”). In addition, the amendment would revise TS 5.5.6, “Inservice Testing Program,” to remove an expired one-time exception of the 5-year frequency requirement for setpoint testing of safety valve MSRV-70ARV.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes correct formatting and typographical errors and [remove] an expired one-time exception. Administrative and editorial changes such as these are not an initiator of any accident previously evaluated. As a result, the probability of an accident previously evaluated is not affected. The consequences of an accident with the incorporation of these administrative and editorial changes are not different than the consequences of the same accident without these changes. As a result, the consequences of an accident previously evaluated are not affected by these changes.

Based on the above, it is concluded that the proposed change does not involve a significant increase in the probability or consequences of an accident previously evaluated.

2. Does the proposed amendment create the possibility of a new or different kind of accident from any accident previously evaluated?

Response: No.

The proposed changes do not modify the plant design, nor do the proposed changes alter the operation of the plant or equipment involved in either routine plant operation or in the mitigation of the design basis accidents. The proposed changes are editorial or administrative only.

Based on the above, it is concluded that the proposed changes do not create the possibility of a new or different kind of accident from any accident previously evaluated.

3. Does the proposed amendment involve a significant reduction in a margin of safety?

Response: No.

The proposed changes consist of administrative and editorial changes to correct formatting and typographical errors and to remove an expired one-time exception. The changes do not alter the manner in which safety limits, limiting safety system settings or limiting conditions for operation are determined. The safety analysis acceptance criteria are not affected by these changes. The proposed changes will not result in plant operation in a configuration outside of the design basis.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Michael T. Markley.

Southern Nuclear Operating Company, Inc., Docket Nos. 50-424 and 50-425, Vogtle Electric Generating Plant, Units 1 and 2, Burke County, Georgia

Date of amendment request: September 1, 2011.

Description of amendment request: The proposed amendment would revise Technical Specification Limiting Conditions for Operation 3.7.9 “Ultimate Heat Sink.” The proposed changes involve changing the criteria for Nuclear Service Cooling Water (NSCW) tower three and four fan operation. These proposed changes include an increase in the wet bulb temperature limit for three fan operation and addition of a Condition that allows a 7-day Completion Time for a specific situation.

Basis for proposed no significant hazards consideration determination: As required by 10 CFR 50.91(a), the licensee has provided its analysis of the issue of no significant hazards consideration, which is presented below:

1. Does the proposed change involve a significant increase in the probability or consequences of an accident previously evaluated?

Response: No.

The proposed changes do not significantly increase the probability or consequences of an accident previously evaluated in the Final Safety Analysis Report (FSAR). The Ultimate Heat Sink is not an initiator to any analyzed accident sequence. Operation in accordance with the proposed technical specification will continue to ensure that the Ultimate Heat Sink remains capable of performing its safety function and that all analyzed accidents will continue to be mitigated as previously analyzed. The proposed technical specification changes will not initiate any accident; therefore, the probability or consequences of an accident have not been increased.

Therefore, these changes do not involve a significant increase in the probability or consequences of an accident previously evaluated.

2. Does the proposed change create the possibility of a new or different kind of accident from any accident previously evaluated?

Response: No.

The proposed changes do not create the possibility of a new or different kind of accident than any accident already evaluated in the FSAR. No new accident scenarios, failure mechanisms or limiting single failures are introduced as result of the proposed changes. The changes have no adverse effects on any safety-related system.

Therefore, all accident analyses criteria continue to be met and these changes do not create the possibility of a new or different kind of accident from any accident previously evaluated.

3. Does the proposed change involve a significant reduction in a margin of safety?

Response: No.

Based on the operability of the required NSCW cooling tower fans, the accident analysis assumptions continue to be met with enactment of the proposed changes. The system's design and operation are not affected by the proposed changes. The safety analysis acceptance criteria are not altered by the proposed changes nor is there a change to any Safety Analysis Limit. Finally, the proposed compensatory measures will provide further assurance that no significant reduction in safety margin will occur. The proposed changes provide reasonable assurance that the NSCW system will continue to perform its intended safety functions.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Arthur H. Domby, Troutman Sanders, NationsBank Plaza, Suite 5200, 600 Peachtree Street, NE., Atlanta, Georgia 30308-2216.

NRC Branch Chief: Gloria Kulesa.

STP Nuclear Operating Company, Docket Nos. 50-498 and 50-499, South Texas Project, Units 1 and 2, Matagorda County, Texas

Date of amendment request: August 23, 2011.

Description of amendment request: The proposed amendment would revise the application of Risk-Managed Technical Specifications (RMTS) to Technical Specification (TS) 3.7.7, “Control Room Makeup and Cleanup Filtration System.” The proposed change would correct a potential misapplication of the Configuration Risk Management Program (CRMP) that is currently allowed by the TSs.

Basis for proposed no significant hazards consideration determination: As required by 10 CFR 50.91(a), the licensee has provided its analysis of the issue of no significant hazards consideration, which is presented below:

1. Does the proposed change involve a significant increase in the probability or consequences of an accident previously evaluated?

Response: No.

The proposed change allows the Configuration Risk Management Program (CRMP) to be applied to Technical Specification (TS) 3.7.7, “Control Room Makeup and Cleanup Filtration Systems” for the condition where one train of the Control Room Makeup and Cleanup Filtration System is inoperable only due to the unavailability of cooling. The change deletes application of the CRMP where more than one train of CRHVAC is inoperable. Some action steps are re-numbered as an administrative change.

The change does not involve a significant increase in the probability of an accident previously evaluated because the change does not involve a change to the plant or its modes of operation. In addition, the risk-informed configuration management program will be applied to effectively manage the availability of required structures, systems, and components to assure there is no significant increase in the probability of an accident.

This proposed change does not increase the consequences of an accident because the design-basis mitigation function of the affected systems is not changed and the risk-informed configuration management program will be applied to effectively manage the availability of structures, systems, and components required to mitigate the consequences of an accident.

Therefore, the proposed change does not involve a significant increase in the probability or consequences of an accident previously evaluated.

2. Does the proposed change create the possibility of a new or different kind of accident from any accident previously evaluated?

Response: No.

The proposed change allows the Configuration Risk Management Program (CRMP) to be applied to TS 3.7.7, “Control Room Makeup and Cleanup Filtration Systems” for the condition where one train of the Control Room Makeup and Cleanup Filtration System is inoperable only due to the unavailability of cooling. The change deletes application of the CRMP where more than one train of CRHVAC is inoperable. Some action steps are renumbered as an administrative change.

The proposed change will not alter the plant configuration (no new or different type of equipment will be installed) or require any unusual operator actions. The proposed change will not alter the way any structure, system, or component functions, and will not significantly alter the manner in which the plant is operated. The response of the plant and the operators following an accident will not be different. In addition, the proposed change does not introduce any new failure modes.

Therefore, the proposed change does not create the possibility of a new or different kind of accident from any previously evaluated.

3. Does the proposed change involve a significant reduction to a margin of safety?

Response: No.

The proposed change allows the Configuration Risk Management Program (CRMP) to be applied to TS 3.7.7, “Control Room Makeup and Cleanup Filtration Systems” for the condition where one train of the Control Room Makeup and Cleanup Filtration System is inoperable only due to the unavailability of cooling. The change deletes application of the CRMP where more than one train of CRHVAC is inoperable. Some action steps are renumbered as an administrative change.

The CRMP implements a risk-informed configuration risk management program in a manner to assure that adequate margins of safety are maintained. Application of the configuration risk management program to TS 3.7.7 complements the risk assessment required by the Maintenance Rule and effectively manages the risk for limiting condition for operation when the Control Room Makeup and Cleanup Filtration Systems are inoperable.

Therefore, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue NW., Washington, DC 20004.

NRC Branch Chief: Michael T. Markley.

Tennessee Valley Authority, Docket No. 50-390, Watts Bar Nuclear Plant (WBN), Unit 1, Rhea County, Tennessee

Date of amendment request: October 5, 2011.

Description of amendment request: The proposed amendment would revise facility operating license NPF-90 to remove license condition 2.G. This license condition describes reporting requirements of other requirements in Section 2.C of the facility operating license. The proposed change is consistent with the Nuclear Regulatory Commission (NRC)-approved change notice published in the Federal Register on November 4, 2005 (70 FR 67202), announcing the availability of this improvement through the consolidated line item improvement process. The Federal Register Notice included a model safety evaluation and model no significant hazards consideration (NSHC) determination, relating to the elimination of the license condition involving reporting of violations of other requirements (typically in License Conditions 2.C) in the operating license of some commercial nuclear power plants. The licensee affirmed the applicability of the model NSHC determination in its application dated October 5, 2011.

Basis for proposed no significant hazards consideration determination: As required by 10 CFR 50.91(a), the licensee has provided its analysis of the issue of no significant hazards consideration, which is presented below:

1. Does the proposed amendment involve a significant increase in the probability or consequences of an accident previously evaluated?

Response: No

The proposed change involves the deletion of a reporting requirement. The change does not affect plant equipment or operating practices and therefore does not significantly increase the probability or consequences of an accident previously evaluated.

2. Does the proposed amendment create the possibility of a new or different kind of accident from any accident previously evaluated?

Response: No.

The proposed change is administrative in that it deletes a reporting requirement. The change does not add new plant equipment, change existing plant equipment, or affect the operating practices of the facility. Therefore, the change does not create the possibility of a new or different kind of accident from any accident previously evaluated.

3. Does the proposed amendment involve a significant reduction in a margin of safety?

Response: No.

The proposed change deletes a reporting requirement. The change does not affect plant equipment or operating practices and therefore does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Stephen J. Campbell.

Union Electric Company, Docket No. 50-483, Callaway Plant, Unit 1, Callaway County, Missouri

Date of amendment request: June 30, 2011.

Description of amendment request: The proposed amendment would revise Technical Specification (TS) 3.6.6, “Containment Spray and Cooling Systems.” Specifically, the amendment would revise Surveillance Requirement (SR) 3.6.6.3 for verifying the minimum required containment cooling train cooling water flow rate. Rather than require verifying each containment cooling train has a cooling water flow rate greater than or equal to 2200 gallons per minute (gpm), TS SR 3.6.6.3 would be revised to require verification that the flow rate is capable of being “within limits” for achieving the heat removal rate assumed in the Callaway Plant safety analyses. This change is supported by a change in the TS Bases for SR 3.6.6.3 to indicate where the flow rate limits are specified as well as to note that these limits provide assurance that the heat removal rate assumed in the Callaway Plant safety analyses will be achieved. The reason for the proposed change to TS SR 3.6.6.3 is to ensure that the surveillance verifies each containment cooling train has a flow rate capable of removing 141.4 × 10⁶ Btu per hour as assumed in the Callaway Plant safety analyses of record. The assumed heat removal rate does not vary; however, the cooling water flow rate does change based on changing system conditions/parameters (e.g., tube plugging and tube fouling) and, therefore, the cooling water flow rate should not be quantified in the TS.

Basis for proposed no significant hazards consideration determination: As required by 10 CFR 50.91(a), the licensee has provided its analysis of the issue of no significant hazards consideration, which is presented below:

1. Does the proposed change involve a significant increase in the probability or consequences of an accident previously evaluated?

Response: No.

The proposed changes for verifying the minimum required containment cooling train cooling water flow rate have no impact on the frequency of occurrence of any of the accidents evaluated in the FSAR [Final Safety Analysis Report]. Changing from a specific flow rate to a flow rate “within limits” based on current system parameters has no impact on the likelihood of occurrence of a loss of coolant accident (LOCA), steam line break (SLB), plant transient, loss of offsite power (LOOP), or any such accident because the precursors for such accidents do not involve containment cooling. The failure or malfunction of a containment cooling train (due, for example, to an inadequate cooling flow rate) is not itself an initiator or precursor of any accident previously evaluated.

The CtCS [containment cooling system] and CSS [containment spray system] provide complementary methods of containment atmosphere cooling to limit post accident pressure and temperature in containment to less than the design values. They are designed to ensure that the heat removal capability required during the post accident period can be attained. Changing the limit for the minimum required CtCS cooling train flow from a specified value to “within limits” appropriately accounts for changes in system conditions while still requiring the heat removal rate specified in the accident analysis to be met. Consequently, the proposed changes do not involve a change in the required performance of the CtCS and therefore do not adversely affect the accident mitigation function of the CtCS.

The CtCS, operating in conjunction with the containment ventilation systems, is also designed to limit the ambient containment air temperature during normal unit operation to less than the limit specified in LCO [Limiting Condition of Operation] 3.6.5, “Containment Air Temperature.” This temperature limitation ensures that the containment temperature does not exceed the initial temperature conditions assumed for the DBAs [design basis accidents]. The proposed change does not impact the capability of the CtCS to maintain containment temperature to within this initial temperature condition for DBAs.

The proposed changes will not affect accident initiators or precursors nor alter the design assumptions, conditions, and configuration of the facility or the manner in which the plant is operated and maintained. The manner in which the ESW [essential service water] system is flow balanced to ensure adequate cooling water flow to all loads required for accident mitigation, including the containment coolers, will not be changed and is in fact supported by the proposed changes. In general, therefore, the proposed changes will not alter or prevent the ability of structures, systems, and components (SSCs) to perform their intended functions to mitigate the consequences of an initiating event within the assumed acceptance limits.

All accident analysis acceptance criteria will continue to be met with the proposed changes. The proposed changes will not affect the source term, containment isolation, or radiological release assumptions used in evaluating the radiological consequences of an accident previously evaluated. The proposed changes will not alter any assumptions or change any mitigation actions in the radiological consequence evaluations in the FSAR. Consequently, the applicable radiological dose acceptance criteria will continue to be met.

Therefore, the proposed changes do not involve a significant increase in the probability or consequences of an accident previously evaluated.

2. Does the proposed change create the possibility of a new or different kind of accident from any accident previously evaluated?

Response: No.

There are no proposed changes in the method by which any safety-related plant SSC performs its safety function. The proposed changes will not affect the normal method of plant operation or change any operating parameters. No equipment design or performance requirements will be affected, including the design and performance requirements for the CtCS and ESW system. The proposed changes will not alter any assumptions made in the safety analyses.

No new accident scenarios, transient precursors, failure mechanisms, or limiting single failures will be introduced as a result of this amendment. There will be no adverse effect or challenges imposed on any safety-related system as a result of this amendment.

Therefore, the proposed changes do not create the possibility of a new or different [kind of] accident from any accident previously evaluated.

3. Does the proposed change involve a significant reduction in a margin of safety?

Response: No.

The margin of safety is related to the confidence in the ability of the fission product barriers to perform their design functions during and following an accident. These barriers include the fuel cladding, the reactor coolant system, and the containment system. The proposed change will have no effect on those plant systems necessary to assure the accomplishment of protection functions. There will be no impact on the overpower limit, departure from nucleate boiling ratio (DNBR) limits, heat flux hot channel factor (FQ), nuclear enthalpy rise hot channel factor (FΔH), loss of coolant accident peak cladding temperature (LOCA PCT), peak local power density, or any other limit or margin of safety. The applicable radiological dose consequence acceptance criteria will continue to be met since the proposed changes have no impact on the radiological consequences of any design basis accident.

With respect to the containment, and as already noted, changing the limit for the minimum required CtCS cooling train flow from a specified value to “within limits” appropriately accounts for changes in system conditions/parameters while still requiring the heat removal rate specified in the accident analysis to be met. Consequently, the CtCS function for limiting post-accident pressure and temperature in the containment building is not adversely affected, and the margins between the calculated peak accident pressure and temperature in the containment and the corresponding containment design limits are unchanged.

The proposed changes do not eliminate any surveillance or alter the frequency of surveillances required by the Technical Specifications. None of the acceptance criteria for any accident analysis will be changed.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street, NW., Washington, DC 20037.

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Public File Area 01 F21, 11555 Rockville Pike (first floor), Rockville, Maryland. Publicly available documents created or received at the NRC are accessible online in the NRC Library at http://www.nrc.gov/reading-rm/adams.html. If you do not have access to ADAMS or if there are problems in accessing the documents located in ADAMS, contact the PDR Reference staff at 1-(800) 397-4209, (301) 415-4737 or by email to pdr.resource@nrc.gov.

Dominion Nuclear Connecticut, Inc., et al., Docket No. 50-423, Millstone Power Station, Unit No. 3, New London County, Connecticut

Date of application for amendment: January 20, 2011.

Brief description of amendment: The amendment revises the Millstone Power Station, Unit No. 3 Technical Specification (TS) 6.8.4.g, “Steam Generator (SG) Program,” to exclude a portion of the tubes below the top of the steam generator tubesheet from periodic steam generator tube inspections during Refueling Outage 14 and the subsequent operating cycle. The amendment also revises the reporting criteria in MPS3 TS 6.9.1.7, “Steam Generator Tube Inspection Report,” to remove reference to previous one-time alternate repair criteria and add reporting requirements specific to temporary alternate repair criteria.

Date of issuance: October 7, 2011.

Effective date: As of the date of issuance and shall be implemented within 30 days from the date of issuance and prior to Mode 5 startup.

Amendment No.: 252.

Renewed Facility Operating License No. NPF-49: Amendment revised the License and Technical Specifications.

Date of initial notice in Federal Register: July 5, 2011 (76 FR 39136). The Commission's related evaluation of the amendment is contained in a Safety Evaluation dated October 7, 2011.

No significant hazards consideration comments received: No.

Exelon Generation Company, LLC, Docket No. 50-461, Clinton Power Station, Unit No. 1, DeWitt County, Illinois

Date of application for amendment: October 28, 2010, as supplemented by letters dated April 8, 2011 and July 1, 2011.

Brief description of amendment: The amendment revised Technical Specification (TS) 3.8.1, “AC Sources Operating,” by removing mode restrictions to perform certain Surveillance Requirements for the Division 3 High Pressure Core Spray emergency diesel generator.

Date of issuance: October 17, 2011.

Effective date: As of the date of issuance and shall be implemented within 60 days.

Amendment No.: 197.

Facility Operating License No. NPF-62: The amendment revised the Technical Specifications and License.

Date of initial notice in Federal Register: January 25, 2011 (76 FR 4385). The April 8, 2011, and July 1, 2011, supplements contained clarifying information and did not change the NRC staff's initial proposed finding of no significant hazards consideration.

The Commission's related evaluation of the amendment is contained in a Safety Evaluation dated October 17, 2011.

No significant hazards consideration comments received: No.

NextEra Energy Point Beach, LLC, Docket Nos. 50-266 and 50-301, Point Beach Nuclear Plant, Units 1 and 2, Town of Two Creeks, Manitowoc County, Wisconsin

Date of application for amendments: June 23, 2011.

Brief description of amendments: The amendments removed the Table of Contents from the Technical Specifications and placed them under licensee control. The Table of Contents is not being eliminated. Responsibility for maintenance and issuance of the Table of Contents will transfer from the U.S. Nuclear Regulatory Commission to NextEra Energy Point Beach, LLC.

Date of issuance: October 11, 2011.

Effective date: This license amendment is effective as of the date of issuance and shall be implemented within 90 days from date of issuance.

Amendment Nos.: 245 (for Unit 1) and 249 (for Unit 2).

Renewed Facility Operating License Nos. DPR-24 and DPR-27: Amendments revised the Renewed Facility Operating License and Technical Specifications.

Date of initial notice in Federal Register: July 26, 2011 (76 FR 44617).

The Commission's related evaluation of the amendments is contained in a Safety Evaluation dated October 11, 2011.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) The application for amendment, (2) the amendment to Facility Operating License, and (3) the Commission's related letter, Safety Evaluation and/or Environmental Assessment, as indicated. All of these items are available for public inspection at the Commission's Public Document Room (PDR), located at One White Flint North, Public File Area 01 F21, 11555 Rockville Pike (first floor), Rockville, Maryland. Publicly available documents created or received at the NRC are accessible online in the NRC Library at http://www.nrc.gov/reading-rm/adams.html. If you do not have access to ADAMS or if there are problems in accessing the documents located in ADAMS, contact the PDR Reference staff at 1-(800) 397-4209, (301) 415-4737 or by email to pdr.resource@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A requestor/petitioner who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a requestor/petitioner seeks to adopt the contention of another sponsoring requestor/petitioner, the requestor/petitioner who seeks to adopt the contention must either agree that the sponsoring requestor/petitioner shall act as the representative with respect to that contention, or jointly designate with the sponsoring requestor/petitioner a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at (301) 415-1677, to request (1) A digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

FirstEnergy Nuclear Operating Company, et al., Docket No. 50-440, Perry Nuclear Power Plant, Unit No. 1, Lake County, Ohio

Date of amendment request: October 11, 2011, supplemented by letters dated October 13, 16 and 17, 2011.

Description of amendment request: This amendment revised Technical Specification (TS) 3.8.1, “AC [Alternating Current] Sources—Operating,” to clarify that a delayed access circuit is temporarily qualified, until December 12, 2011, as one of two required offsite circuits between the offsite transmission network and the onsite Class 1E AC electric power distribution system.

Date of issuance: October 17, 2011.

Effective date: As of its date of issuance and shall be implemented within 30 days of the date of issuance.

Amendment No.: 160.

Facility Operating License No. NPF-58: Amendment revised the technical specifications.

Public comments requested as to proposed no significant hazards consideration (NSHC): No.

The Commission's related evaluation of the amendment, finding of emergency circumstances, state consultation, and final NSHC determination are contained in a safety evaluation dated October 17, 2011.

Attorney for licensee: David W. Jenkins, Attorney, FirstEnergy Corporation, Mail Stop A-GO-15, 76 South Main Street, Akron, OH 44308.

NRC Branch Chief: Jacob I. Zimmerman.

Dated at Rockville, Maryland, this 24th day of October, 2011.
For the Nuclear Regulatory Commission.
Michele Evans,
Director, Division of Operating Reactor Licensing, Office of Nuclear Reactor Regulation.

[FR Doc. 2011-28162 Filed 10-31-11; 8:45 am]

BILLING CODE 7590-01-P